CONSUMER PRODUCT SAFETY COMMISSION

Proposed Collection of Information; Comment Request—Safety Standard for Cigarette Lighters

AGENCY: Consumer Product Safety Commission.

ACTION: Notice.

SUMMARY: As required by the Paperwork Reduction Act of 1995 (44 U.S.C. Chapter 35), the Consumer Product Safety Commission requests comments on a proposed request for an extension of approval of a collection of information from manufacturers and importers of disposable and novelty cigarette lighters. This collection of information consists of testing and recordkeeping requirements in certification regulations implementing the Safety Standard for Cigarette Lighters (16 CFR part 1210). The Commission will consider all comments received in response to this notice before requesting an extension of approval of this collection of information from the Office of Management and Budget.

DATES: The Office of the Secretary must receive written comments not later than June 26, 2006.

ADDRESSES: Written comments should be captioned “Cigarette Lighters” and e-mailed to the Office of the Secretary at cpsc-os@cpsc.gov. Comments may also be sent by facsimile to (301) 504-0127, or by mail to the Office of the Secretary, Consumer Product Safety Commission, 4330 East West Highway, Bethesda, Maryland 20814.

FOR FURTHER INFORMATION CONTACT: For information about the proposed extension of approval of the collection of information, or to obtain a copy of 16 CFR part 1210, call or write Linda L. Glatz, Office of Planning and Evaluation, Consumer Product Safety Commission, 4330 East West Highway, Bethesda, Maryland 20814; telephone (301) 504-7671.

SUPPLEMENTARY INFORMATION: In 1993, the Commission issued the Safety Standard for Cigarette Lighters (16 CFR part 1210) under provisions of the Consumer Product Safety Act (CPSA) (15 U.S.C. 2051 et seq.) to eliminate or reduce risks of death and burn injury from fires accidentally started by children playing with cigarette lighters. The standard contains performance requirements for disposable and novelty lighters that are intended to make cigarette lighters subject to the standard resist operation by children younger than five years of age.

A. Certification Requirements

Section 14(a) of the CPSA (15 U.S.C. 2063(a)) requires manufacturers, importers, and private labelers of a consumer product subject to a consumer product safety standard to issue a certificate stating that the product complies with all applicable consumer product safety standards. Section 14(a) of the CPSA also requires that the certificate of compliance must be based on a test of each product or upon a reasonable testing program.

Section 14(b) of the CPSA authorizes the Commission to issue regulations to prescribe a reasonable testing program to support certificates of compliance with a consumer product safety standard. Section 16(b) of the CPSA (15 U.S.C. 2065(b)) authorizes the Commission to issue rules to require that firms “establish and maintain” records to permit the Commission to determine compliance with rules issued under the authority of the CPSA.

The Commission has issued regulations prescribing requirements for a reasonable testing program to support certificates of compliance with the standard for cigarette lighters. These regulations require manufacturers and importers to submit a description of each model of lighter, results of surrogate qualification tests for compliance with the standard, and other information before the introduction of each model of lighter in commerce. These regulations also require manufacturers, importers, and private labelers of disposable and novelty lighters to establish and maintain records to demonstrate successful completion of all required tests to support the certificates of compliance that they issue. 16 CFR part 1210, subpart B.

The Commission uses the information compiled and maintained by manufacturers, importers, and private labelers of disposable and novelty lighters to protect consumers from risks of accidental deaths and burn injuries associated with those lighters. More specifically, the Commission uses this information to determine whether lighters comply with the standard by resisting operation by young children. The Commission also uses this information to obtain corrective actions if disposable or novelty lighters fail to comply with the standard in a manner that creates a substantial risk of injury to the public.

The Office of Management and Budget (OMB) approved the collection of information in the certification regulations for cigarette lighters under control number 3041-0116. OMB's most recent extension of approval will expire on June 30, 2006. The Commission proposes to request an extension of approval for these collection of information requirements.

B. Estimated Burden

The cost of the rule's testing requirement is the cost of testing, either by the firm or by outside contractors. There are an estimated 60 firms that may be affected. If done through outside contractors, the cost per test has been estimated at $15,000 to $25,000 on average. Each firm is expected to test 2 models per year. Thus, for the 60 affected firms, the cost of outside testing would be $2.4 million. If tests are conducted in-house, testing 2 new models is expected to take 175 hours per firm. The total testing time for all 60 firms, if conducted in-house, would be approximately 10,500. Based on the average hourly total compensation (wages and benefits) for U.S. technical workers of $42.84 (Bureau of Labor Statistics, September, 2005), the total industry cost of the testing component for this regulation would be in the range of $450,000 to $2.4 million per year, depending on the method chosen.

The cost of the recordkeeping requirements has two separate components: Recordkeeping for new models and recordkeeping for comparable models. The time consumed in recordkeeping for new models has been estimated at 20 hours per model. Thus the total time consumed for recordkeeping of new models would be 2,400 hours (20 hours × 2 models × 60 firms). Based on the average hourly compensation for technical workers, the cost of recordkeeping for new models would be about $100,000 annually (2,400 × 42.84).

Time consumed in recordkeeping for lighters that are submitted for comparison to previously tested models will require approximately 3 hours for each model. Based on recent submission, each firm is expected to submit 35 models each year for comparison. Thus, an estimated 6,300 hours may be required by the 60 firms for recordkeeping regarding comparison lighters (35 models × 60 firms × 3 hours). Based on the average hourly compensation for technical workers, the cost of recordkeeping would be about $270,000 (6,300 hours × $42.84). The total recordkeeping costs associated with the lighter regulation would be approximately $370,000 ($100,000 + $270,000).

In addition, each firm will submit information to the CPSC regarding the new testing and comparison submissions totaling about 2,200 responses per year (2 models tested + 35 comparison models × 60 firms). The total number of hours for these responses would be approximately 19,200 per year including new-product testing (175 hours × 60 firms = 10,500), new product recordkeeping (40 hours × 60 firms = 2,400), and recordkeeping for comparison lighters (35 models × 3 hours × 60 firms = 6,300). Based on the average hourly compensation for technical workers, the total cost of preparing these submissions would be about $823,000 (19,200 hours × $42.84).

C. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Dated: April 21, 2006.
Todd A. Stevenson,
Secretary, Consumer Product Safety Commission.

[FR Doc. E6-6297 Filed 4-25-06; 8:45 am]

BILLING CODE 6355-01-P